EXPORT-IMPORT BANK

[Public Notice 2021-3027]

Agency Information Collection Activities: Comment Request

AGENCY: Export-Import Bank of the United States.

ACTION: Submission for OMB review and comments request.

SUMMARY: The Export-Import Bank of the United States (EXIM), as a part of its continuing effort to reduce paperwork and respondent burden, invites the general public and other Federal Agencies to comment on the proposed information collection, as required by the Paperwork Reduction Act of 1995.

DATES: Comments must be received on or before October 13, 2021 to be assured of consideration.

ADDRESSES: Comments may be submitted electronically on WWW.REGULATIONS.GOV or by mail to Edward Coppola, Export-Import Bank of the United States, 811 Vermont Ave. NW, Washington, DC 20571.

The form can be viewed at: https://www.exim.gov/sites/default/files/pub/pending/eib11-04.pdf.

FOR FURTHER INFORMATION CONTACT: To request additional information, please Edward Coppola Edward.Coppola@exim.gov. 202-565-3717.

Form can be viewed at https://www.exim.gov/sites/default/files/pub/pending/eib92-79.pdf.

SUPPLEMENTARY INFORMATION: Title and Form Number: EIB 92-79 Broker Registration Form.

Form Title: EIB 92-79 Broker Registration Form.

OMB Number: 3048-0024.

Type of Review: Regular.

Need and Use: This form is used by insurance brokers to register with Export Import Bank. The form provides Export Import Bank staff with the information necessary to make a determination of the eligibility of the broker to receive commission payments under Export Import Bank's credit insurance programs.

Our customers will be able to submit this form on paper or electronically. This form is used by insurance brokers to register with Export-Import Bank. It provides EXIM staff with the information necessary to make a determination of the eligibility of the broker to receive commission payments under Export-Import Bank's credit insurance programs.

Affected Public: This form affects entities engaged in brokering export credit insurance policies.

Annual Number of Respondents: 50.

Estimated Time per Respondent: 15 minutes.

Frequency of Reporting or Use: Once every three years.

Government Expenses:

Review Time per Response: 2 hours.

Reviewing Time per Year: 100 hours.

Average Wages per Hour: $42.50.

Average Cost per Year: $4,250.

Benefits and Overhead: 20%.

Total Government Cost: $5,100.

Bassam Doughman,
IT Specialist.

[FR Doc. 2021-19633 Filed 9-10-21; 8:45 am]

BILLING CODE 6690-01-P